DEPARTMENT OF ENERGY

Federal Energy Regulatory Commission

[Project No. 13239-002]

Parker Knoll Hydro, LLC; Notice of Intent To Prepare An Environmental Impact Statement and Notice of Scoping Meetings and Soliciting Scoping Comments

Take notice that the following hydroelectric applications have been filed with Commission and are available for public inspection:

a. Type of Application: New Major License.

b. Project No.: 13239.

c. Date filed: November 30, 2011.

d. Applicant: Parker Knoll Hydro, LLC.

e. Name of Project: Parker Knoll Pumped Storage Hydroelectric Project.

f. Location: At Parker Mountain, near the Town of Richfield, Piute County, Utah. The project would occupy 458.7 acres of federal land administered by the U.S. Bureau of Land Management.

g. Filed Pursuant to: Federal Power Act, 16 U.S.C. 791(a)-825(r).

h. Applicant Contact: Justin Barker, Parker Knoll Hydro, LLC., 975 South State Highway, Logan, UT 84321; (435) 752-2580.

i. FERC Contact: Matt Buhyoff, matt.buhyoff@ferc.gov, (202) 502-6824.

j. Deadline for filing scoping comments: January 10, 2013.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. This application is not ready for environmental analysis at this time.

l. The proposed project would be a closed-loop pumped storage system, with an initial fill from the existing Otter Creek reservoir. Parker Knoll would include the following new facilities: (1) An approximately 175-feet-high upper main dam with a crest length of approximately 1,650 feet and one saddle dam; (2) an upper reservoir with a storage capacity of approximately 6,780 acre-feet and a surface area of approximately 110 acres; (3) an approximately 100-feet-high lower dam with a crest length of approximately 1,750 feet and two saddle dams; (4) a lower reservoir with storage capacity of approximately 6,760 acre-feet and a surface area of approximately 130 acres; (5) a 2,390-feet-long and 27-feet-diameter headrace tunnel; (6) a 2,200-feet-long and 27-feet-diameter vertical shaft; (7) a 1,000-feet-long and 27-feet-diameter steel-lined penstock tunnel; (8) a 7,126-feet-long and 35-feet-diameter tailrace tunnel; (9) a powerhouse containing four variable speed, reversible pump-turbine units with a minimum rating of 250 megawatt (MW); (10) an approximately 585-feet by 340-feet substation; (11) a 16-inch diameter and 68,000-feet-long fill pipeline and system; (12) approximately one mile of 345-kV transmission line; and (13) appurtenant facilities. The project would occupy 458.7 acres of federal land and would have an estimated annual generation of 2,630 gigawatt hours.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Scoping Process: The Commission intends to prepare an Environmental Impact Statement (EIS) on the project in accordance with the National Environmental Policy Act. The EIS will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EIS. The times and locations of these meetings are as follows:

Agency Scoping Meeting

Date: December 11, 2012.

Time: 10:00 a.m. (MST).

Place: Holiday Inn Express.

Address: 20 West 1400 North, Richfield, Utah.

Public Scoping Meeting

Date: December 11, 2012.

Time: 6:00 p.m. (MST).

Place: Holiday Inn Express.

Address: 20 West 1400 North, Richfield, Utah.

Copies of the Scoping Document (SD1) outlining the subject areas to be addressed in the EIS were distributed to the parties on the Commission's mailing list. Copies of the SD1 will be available at the scoping meeting or may be viewed on the web at http://www.ferc.gov using the “eLibrary” link (see item m above).

Objectives

At the scoping meetings, the staff will: (1) Summarize the environmental issues tentatively identified for analysis in the EIS; (2) solicit from the meeting participants all available information, especially quantifiable data, on the resources at issue; (3) encourage statements from experts and the public on issues that should be analyzed in the EIS, including viewpoints in opposition to, or in support of, the staff's preliminary views; (4) determine the resource issues to be addressed in the EIS; and (5) identify those issues that require a detailed analysis, as well as those issues that do not require a detailed analysis.

Procedures

The meetings are recorded by a court reporter and become part of the formal record of the Commission proceeding on the project.

Individuals, organizations, and agencies with environmental expertise and concerns are encouraged to attend the meeting and to assist the staff in defining and clarifying the issues to be addressed in the EIS.

Dated: November 9, 2012.
Kimberly D. Bose,
Secretary.

[FR Doc. 2012-27960 Filed 11-15-12; 8:45 am]

BILLING CODE 6717-01-P